DEPARTMENT OF LABOR

Employment and Training Administration

[TA-W-38,569]

O/Z-Gedney Co., Div. of EGS Electrical Group, Terryville, CT; Amended Certification Regarding Eligibility To Apply for Worker Adjustment Assistance

In accordance with section 223 of the Trade Act of 1974 (19 U.S.C. 2273) the Department of Labor issued a Certification of Eligibility to Apply for Worker Adjustment Assistance on March 27, 2001, applicable to workers of O/Z-Gedney Company, Div. of EGS Electrical Group, Terryville, Connecticut. The notice was published in the Federal Register on April 16, 2001 (66 FR 19521).

At the request of a company official, the Department reviewed the certification for workers of the subject firm. The workers were engaged in the production of electrical fittings for the non-residential construction industry.

New information shows that a worker, Ms. Jacqueline Lancioni, was retained at the subject firm beyond the March 27, 2003, expiration date of the certification. This employee was engaged in activities related to the close-down process until her termination on March 26, 2004.

Based on these findings, the Department is amending the certification to extend the March 27, 2003, expiration date for TA-W-38,569 to read March 26, 2004.

The intent of the Department's certification is to include all workers of O/Z-Gedney Company, Div. of EGS Electrical Group, who were adversely affected by increased imports.

The amended notice applicable to TA-W-38,569 is hereby issued as follows:

A worker of O/Z-Gedney Company, Div. of EGS Electrical Group, Terryville, Connecticut, who became totally or partially separated from employment on or after January 5, 2000, through March 26, 2004, is eligible to apply for adjustment assistance under section 223 of the Trade Act of 1974.

Signed at Washington, DC, this 12th day of July, 2004.
Linda G. Poole,
Certifying Officer, Division of Trade Adjustment Assistance.

[FR Doc. 04-16428 Filed 7-19-04; 8:45 am]

BILLING CODE 4510-30-M